DEPARTMENT OF ENERGY

Federal Energy Regulatory Commission

Notice of Compliance Filings

April 18, 2007.

| Docket Nos.
Sierra Pacific Resources Operating Companies | OA07-2-000
Tampa Electric Company | OA07-3-000
UNS Electric, Inc | OA07-4-000
Avista Corporation | OA07-5-000
Cleco Power LLC | OA07-6-000
NorthWestern Corporation (South Dakota) | OA07-7-000
Mid-Continent Area Power Pool | OA07-8-000
Puget Sound Energy, Inc | OA07-9-000
E.ON U.S. LLC | OA07-10-000
Deseret Generation & Transmission Co-operative, Inc | OA07-11-000
MidAmerican Energy Company | OA07-12-000
NorthWestern Corporation (Montana) | OA07-13-000
Maine Public Service Company | OA07-14-000
Portland General Electric Company | OA07-15-000
Black Hills Power, Inc | OA07-16-000
Entergy Services, Inc | OA07-17-000
PacifiCorp | OA07-18-000
Arizona Public Service Company | OA07-19-000

Take notice that on April 13 and April 16, 2007, the above-referenced companies submitted filings, pursuant to section 205 of the Federal Power Act and Order No. 890, 118 FERC ¶ 61,119 (2007), requesting that the Commission find that previously-approved deviations from the Commission's pro forma open access transmission tariff (OATT) remain consistent with or superior to the terms and conditions of the OATT as reformed by Order No. 890.

Any person desiring to intervene or to protest these filings must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 7, 2007.

Kimberly D. Bose,
Secretary.

[FR Doc. E7-7803 Filed 4-24-07; 8:45 am]

BILLING CODE 6717-01-P